DEPARTMENT OF DEFENSE

Department of the Army, U.S. Army Corps of Engineers

Notice of Availability of the Final Environmental Impact Statement for the Proposed Point Thomson Project, North Slope Borough, AK

AGENCY: Corps of Engineers, Department of the Army, Department of Defense.

ACTION: Notice of Availability—Final EIS.

SUMMARY: In accordance with the National Environmental Policy Act of 1969 (NEPA, 42 U.S.C. 4321 et seq.) and Council on Environmental Quality regulations (40 CFR parts 1500-1508) the Corps of Engineers, Alaska District, advises that the Final EIS for the Point Thomson Project, proposed by Exxon Mobil Corporation and PTE Pipeline, is now available for public review. The Final EIS evaluated reasonable alternative designs and potential impacts to the environment. The proposed project includes the construction of structures in navigable waters of the United States (U.S.) and the discharge of dredged and/or fill materials into waters of the U.S., including wetlands. The proposed work requires authorization from the Corps of Engineers under Section 10 of the Rivers and Harbors Act (RHA) of 1899 and Section 404 of the Clean Water Act (CWA). The Final EIS will be used to evaluate the Applicant's Department of the Army (DA) permit application and compliance with NEPA.

DATES: The 30-day review period begins on July 27, 2012 and ends on August 27, 2012. The Record of Decision on the proposed action will be issued after August 27, 2012. The Final EIS is not open for public comment.

FOR FURTHER INFORMATION CONTACT: Mr. Harry A. Baij Jr., by email message at harry.a.baij@usace.army.mil, by telephone at 800-478-2712 (toll free within AK), 907-753-2784 (office), or 907-350-5097 (cell).

SUPPLEMENTARY INFORMATION:

1. Authorization: Section 404 of the Clean Water Act (33 U.S.C. 1344) and Section 10 of the Rivers and Harbors Act of 1899 (33 U.S.C. 403); Department of Defense, Corps of Engineers, Department of the Army, 33 CFR Parts 320 through 330, Regulatory Program of the Corps of Engineers; Final rule; Appendix B of 33 CFR Part 325.

2. Background Information: The Alaska District, Corps of Engineers received the Applicant's complete permit application on November 1, 2011. The Applicant's project purpose is to initiate commercial liquid hydrocarbon production (natural gas condensate) and delineate and evaluate hydrocarbon resources in the Point Thomson area. Two natural gas production wells have been authorized, drilled, and tested at an existing gravel pad at Point Thomson, AK. Other previously authorized gravel pads and exploration wells exist in the general area.

3. Location: The project is located on Alaska's Arctic Coastal Plain, Beaufort seacoast, approximately 60 miles east of Prudhoe Bay. Most of the Thomson Sand Reservoir is located under the Beaufort Sea. The proposed facilities would be located primarily onshore, on State of Alaska lands, leased to the Applicant or their working interest partners of the oil and gas industry. Kaktovik, AK is located approximately 60 miles east. The farthest eastward development resulting from this proposed project would be approximately 2 miles west of the Arctic National Wildlife Refuge boundary.

4. Proposed Project: The proposed project includes industrial development involving gravel fill placement in tundra wetlands and waters, construction of marine structures, and dredging. The proposed project would construct a large gravel mine; a mile long gravel airstrip; 3 hydrocarbon production and/or processing gravel pads; several miles of in-field gravel roads; similar length infield above-ground pipelines; a marine bulkhead, service pier, and mooring dolphins; navigational dredging; and other industrial infrastructure. Processed liquid hydrocarbons would be transported through a new 23-mile long elevated pipeline to existing facilities to the west and further connections to the Trans Alaska Pipeline System. The proposed project would include construction of temporary and permanent camps (lodging); offices, warehouses, and shops; electric power generation and distribution facilities; fuel, water, and chemical storage; a water and wastewater treatment facility; a grind and inject drilling waste facility; a solid waste facility; and communications facilities. The proposed project would include directional drilling a minimum of five wells from three coastal gravel pads: Central, East, and West. The Central Pad would be the largest and the primary location for construction and operations, processing fluids, locating a gas injection well for recycling natural gas, and a wastewater disposal well. The East and West Pads would include wells to delineate and evaluate the hydrocarbon reservoir for additional oil and gas resources and facilitate production.

5. Alternatives: Four alternatives were developed and evaluated in the Final EIS that would meet the Applicant's stated purpose and need. The No Action Alternative is used for comparison of the environmental effects of the action alternatives and involves long term monitoring and maintenance of the existing wells and gravel pads. Three Action Alternatives were developed and considered. Two action alternatives would minimize impacts to coastal resources by locating infrastructure components inland from the coastline and reducing coastal access. These 2 alternatives consider alternative transportation routes, such as ice roads and an all-season gravel road in-lieu of barge access. A third alternative was developed to reduce impacts to waters and wetlands by minimizing the total gravel fill footprint. A complete description of the alternatives development, screening process, and the alternatives carried forward for detailed study, is disclosed in Chapter 2 of the Final EIS.

6. Scoping Process: A Notice of Intent to prepare a Draft EIS for the Proposed Point Thomson Project was published in the Federal Register on December 4, 2009. The Corps of Engineers conducted public scoping, Alaska Native Tribal consultations, and resource agency meetings in AK prior to preparing the Draft EIS. Over 300 issue-specific comments were identified. Results from the scoping process were summarized a Public Scoping Document and are addressed in the Draft EIS.

7. Draft EIS Review: The Draft EIS comment period began November 18, 2011 with the publication of the Notice of Availability in the Federal Register. It was originally scheduled to end on January 3, 2012 but was extended until January 18, 2012 after requests for an extension were received. Open house and public comment meetings were held between December 5-15, 2011 in Anchorage, Fairbanks, Kaktovik, Nuiqsut, and Barrow, AK. The Corps of Engineers received over 240 comment submissions during the comment period. Over 660 individual comments were recorded and responded to. Based on comments received, errors in the Draft EIS were corrected and sections edited for clarity. The Final EIS is the result of these changes and additions. Overall impact findings did not change between the Draft and Final EIS, although some descriptions did change.

8. Availability of the Final EIS: The Final EIS is electronically available for viewing and printing at: www.pointthomsonprojecteis.com.

A printed Executive Summary, which includes 2 Compact Disks containing the entire Final EIS, may be obtained by contacting Mr. Baij at the above contact information.

Printed copies of the Final EIS are available for review at the following public libraries and schools: Harold Kaveolook School, Kaktovik, Alaska; Nuiqsut Trapper School, Nuiqsut, Alaska; Tuzzy Consortium Library, Barrow, Alaska; Noel Wein Library, Fairbanks, Alaska; Z.J. Loussac Library, Anchorage, Alaska; Alaska Resources Library and Information Services, Anchorage, Alaska; and University of Alaska, Anchorage Library, Anchorage, Alaska.

Dated: July 19, 2012.
Harry A. Baij Jr.,
Project Manager, US Army Corps of Engineers, Alaska District.

[FR Doc. 2012-18372 Filed 7-26-12; 8:45 am]

BILLING CODE 3720-58-P